Title 3—

The President

Proclamation 11010 of February 6, 2026

Ensuring Affordable Beef for the American Consumer

By the President of the United States of America

A Proclamation

1. Cattle ranchers have played an integral role in United States history, helping to forge an American identity and an American diet with beef as a key staple food. Today, beef remains vital in the American diet, evidenced by the fact that the United States is the largest consumer of beef by volume, followed closely by China and Brazil. And the United States ranks second in per capita beef consumption globally.

2. But in 2022, the United States faced a widespread and severe drought, affecting beef-producing States, such as Texas, Oklahoma, Missouri, Nebraska, South Dakota, and Kansas. Texas and Kansas, for example, continue to face persistent drought conditions. The effects of drought are particularly pronounced for livestock producers as many of their operations rely on precipitation to grow forage crops to feed their herds.

3. In addition to droughts, wildfires have affected the grasslands of the western United States, including America's cattle-producing States. Apart from the direct threat of burns and burn-associated deaths to cattle, cattle ranchers have had to adapt to indirect effects of wildfires, including changes in grazing patterns, loss of feed supplies, and suboptimal animal health for those cattle surviving the wildfires.

4. Given the demand for beef, certain United States cattle farmers and ranchers supplement their herds, specifically their feedlot stocks, with cattle (calves) imported from Mexican ranchers. But following new detections of the New World screwworm in Mexico in May 2025, the Department of Agriculture Animal Plant and Health Inspection Service, in conjunction with U.S. Customs and Border Protection (CBP), restricted the importation of live animal commodities from or transiting through Mexico, further limiting domestic feedlot stock supplies.

5. These factors have combined to result in the United States cattle herd contracting to record lows. As of July 2025, the United States cattle inventory totaled 94.2 million head, including 28.7 million beef cows. This is one percent lower than the United States cattle inventory surveyed in July 2023, continuing the downward trend of cattle inventory in the United States.

6. The abovementioned factors have also cumulatively resulted in higher beef prices for United States consumers, including for ground beef. Since January 2021, ground beef prices have continued to rise, reaching an average of $6.69 per pound in December 2025, according to the Bureau of Labor Statistics—the highest since the Department of Labor started tracking beef prices in the 1980s.

7. Despite the increased prices and the availability of more affordable protein alternatives, United States consumers' demand for beef remains strong. The United States imported a record high amount of beef in 2024, reaching 4.64 billion pounds, a more than 24 percent increase in beef imports since 2023. Among the beef products the United States imports are lean trimmings, which are blended with fattier domestic trimmings to produce ground beef products, such as hamburgers.

8. The Secretary of Agriculture has monitored the domestic supply of beef products subject to a tariff-rate quota (TRQ), including lean beef trimmings falling under Harmonized Tariff Schedule of the United States (HTSUS) statistical reporting numbers 0201.30.5091, 0201.30.5097, 0202.30.5091 and 0202.30.5097, and noted the domestic supply of such products and substitutable products combined with the estimated imports of such products under the United States beef import TRQ. The Secretary of Agriculture also advised on related domestic demand and pricing.

9. As President of the United States, I have a responsibility to ensure that hard-working Americans can afford to feed themselves and their families. After considering the information provided to me by the Secretary of Agriculture, among other relevant information, I am taking action to temporarily increase the quantity of in-quota imports of lean beef trimmings under the United States beef TRQ to increase the supply of ground beef for United States consumers.

10. Section 404 of the Uruguay Round Agreements Act (URAA) (Public Law 103-465, 108 Stat. 4809, 4959-61 (19 U.S.C. 3601)) authorizes the President, in certain circumstances, to modify TRQs on certain agricultural products. In particular, section 404(b) of the URAA (19 U.S.C. 3601(b)) provides that where imports of an agricultural product are subject to a TRQ, and where the President determines and proclaims that the supply of the same or directly competitive or substitutable agricultural product will be inadequate, because of a natural disaster, disease, or major national market disruption, to meet domestic demand at reasonable prices, the President may temporarily increase the quantity of imports of the agricultural product that is subject to the in-quota rate of duty established under the TRQ. And section 404(d)(3) of the URAA (19 U.S.C. 3601(d)(3)) provides that the President may allocate the in-quota quantity of a TRQ for any agricultural product among supplying countries or customs areas and may modify any allocation as determined appropriate by the President.

11. After considering the information provided to me by the Secretary of Agriculture, among other relevant information, I find that imports of lean beef trimmings into the United States are currently subject to the United States TRQ for beef and determine that the supply of lean beef trimmings or directly competitive or substitutable agricultural products will be inadequate to meet domestic demand at reasonable prices because of a natural disaster and major national market disruption. Accordingly, I determine that it is necessary and appropriate to temporarily increase the quantity of imports of lean beef trimmings subject to the in-quota rate of duty established under the beef TRQ. In addition, I determine that it is appropriate to allocate all of the increased in-quota quantity of beef, as established by this proclamation, to Argentina.

12. Section 604 of the Trade Act of 1974, as amended (19 U.S.C. 2483), authorizes the President to embody in the HTSUS the substance of statutes affecting import treatment, and actions thereunder, including the removal, modification, continuance, or imposition of any rate of duty or other import restriction.

NOW, THEREFORE, I, DONALD J. TRUMP, President of the United States of America, by the authority vested in me by the Constitution and the laws of the United States, including section 404 of the URAA, section 604 of the Trade Act of 1974, as amended, and section 301 of title 3, United States Code, do hereby proclaim as follows:

(1) For calendar year 2026, the aggregate in-quota quantity for certain products described in Additional U.S. Note 3 of Chapter 2 of the HTSUS will be increased by 80,000 metric tons (mt).

(2) The additional 80,000 mt described in clause (1) of this proclamation will apply only to lean beef trimmings classifiable under HTSUS statistical reporting numbers 0201.30.5091, 0201.30.5097, 0202.30.5091, and 0202.30.5097.

(3) The additional 80,000 mt described in clauses (1) and (2) of this proclamation will be administered on a first-come, first-served basis in four quarterly tranches. The first tranche of 20,000 mt will open on February 13, 2026, and close on March 31, 2026. The second tranche of 20,000 mt will open on April 1, 2026, and close on June 30, 2026. The third tranche of 20,000 mt will open on July 1, 2026, and close on September 30, 2026. The fourth tranche of 20,000 mt will open on October 1, 2026, and close on December 31, 2026.

(4) The additional 80,000 mt described in clauses (1) and (2) of this proclamation is allocated in its entirety to Argentina.

(5)(a) To establish the TRQ amendments described in this proclamation, the HTSUS is modified as set forth in the Annex to this proclamation.

(b) The United States Trade Representative (Trade Representative), in consultation with CBP, shall determine whether any additional modifications to the HTSUS are necessary to effectuate this proclamation and shall make such modifications to the HTSUS through notice in the Federal Register, including any technical correction to the Annex to this proclamation.

(6) The Secretary of Agriculture shall continue to monitor the domestic supply of lean beef trimmings, as the Secretary considers appropriate, and shall advise me on the domestic supply of lean beef trimmings or directly competitive or substitutable products, combined with the estimated imports of such products under the TRQ as adjusted by this proclamation, and how such availability relates to domestic demand at reasonable prices. The Secretary of Agriculture, in consultation with the Trade Representative, shall inform me of any circumstances that, in the Secretary's opinion, might indicate the need for further action and shall recommend to me any additional action I should take, if necessary.

(7) Each executive department and agency (agency) is authorized to and shall take all appropriate measures within its authority to implement this proclamation. The head of each agency may, consistent with applicable law, including section 301 of title 3, United States Code, redelegate any of these functions within their respective agency.

(8) Any provision of previous proclamations and Executive Orders that is inconsistent with the actions taken in this proclamation is superseded to the extent of such inconsistency. If any provision of this proclamation or the application of any provision to any individual or circumstance is held to be invalid, the remainder of this proclamation and the application of its provisions to any other individuals or circumstances shall not be affected.

IN WITNESS WHEREOF, I have hereunto set my hand this sixth day of February, in the year of our Lord two thousand twenty-six, and of the Independence of the United States of America the two hundred and fiftieth.

Billing code 3395-F4-P

[FR Doc. 2026-03050

Filed 2-12-26; 11:15 am]

Billing code 7020-02-C